Title 3—

The President

Proclamation 8340 of January 15, 2009

Martin Luther King, Jr., Federal Holiday, 2009

By the President of the United States of America

A Proclamation

On the Martin Luther King, Jr., Federal Holiday, we recognize one of history’s most consequential advocates for equality and civil rights, and we celebrate his powerful message of justice and hope. Our Nation is better because Dr. King was a man of courage and vision who understood that love and compassion will always triumph over bitterness and hatred.

As Americans, we believe it is self-evident that all men are created equal and that freedom is not a grant of government but a gift from the Author of Life. Dr. King trusted in these beliefs articulated in our founding documents even when our country’s practices did not live up to its promises. He roused the conscience of a complacent Nation by drawing attention to the ugliness of discrimination and segregation and by calling on Americans to live up to our guarantee of equality.

Our Nation has seen tremendous progress in redeeming the ideals of America and protecting every person’s God-given rights. The historic election of Barack Obama as President of the United States reflects the real advances our Nation has made in the fight against the bigotry that Dr. King opposed. More work remains, though, and we must heed Dr. King’s words that “injustice anywhere is a threat to justice everywhere.” By continuing to spread his message and demanding that the equal rights he fought for are extended to all people, we can ensure that the dignity of every person is respected and that the hope for a better tomorrow reaches every community throughout the world.

As we observe Dr. King’s birthday, we commemorate his leadership and strength of character. We go forward with confidence that if we remain true to our founding principles, our Nation will continue to advance the cause of justice and remain a beacon of hope to people everywhere.

NOW, THEREFORE, I, GEORGE W. BUSH, President of the United States of America, by virtue of the authority vested in me by the Constitution and laws of the United States, do hereby proclaim January 19, 2009, as the Martin Luther King, Jr., Federal Holiday. I encourage all Americans to observe this day with appropriate civic, community, and service programs and activities in honor of Dr. King’s life and legacy.

IN WITNESS WHEREOF, I have hereunto set my hand this fifteenth day of January, in the year of our Lord two thousand nine, and of the Independence of the United States of America the two hundred and thirty-third.

[FR Doc. E9-1526

Filed 1-21-09; 11:15 am]

Billing code 3195-W9-P